DEPARTMENT OF THE INTERIOR

Bureau of Reclamation

[RR03042000, 15XR0680A1, RX.18786000.1501100]

Agency Information Collection; Proposed Renewal of a Currently Approved Information Collection (OMB Control Number 1006-0014)

AGENCY: Bureau of Reclamation, Interior.

ACTION: Notice and request for comments.

SUMMARY: We, the Bureau of Reclamation, intend to submit a request for renewal of an existing approved information collection to the Office of Management and Budget (OMB) titled, Lower Colorado River Well Inventory, OMB Control Number 1006-0014. The current OMB approval expires on August 31, 2015.

DATES: Submit written comments on this information collection request on or before April 6, 2015.

ADDRESSES: Send written comments or requests for copies of the forms to Paul Matuska, Water Accounting and Verification Group Manager, LC-4200, Bureau of Reclamation, Lower Colorado Regional Office, P.O. Box 61470, Boulder City, NV 89006-1470; or by email to pmatuska@usbr.gov.

FOR FURTHER INFORMATION CONTACT: Paul Matuska at (702) 293-8164.

SUPPLEMENTARY INFORMATION: In accordance with the Paperwork Reduction Act of 1995 (44 U.S.C. 3501 et seq.), this notice announces that the Bureau of Reclamation is requesting approval for the collection of data from well and river-pump owners and operators along the lower Colorado River in Arizona, California, and Nevada.

I. Abstract

Pursuant to the Boulder Canyon Project Act (Pub. L. 70-642, 45 Stat. 1057), all diversions of mainstream Colorado River water must be in accordance with a Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells.

II. Data

OMB Control Number: 1006-0014.

Title: Lower Colorado River Well Inventory.

Form Number: LC-25.

Frequency: These data are collected only once for each well or river-pump owner or operator as long as changes in water use, or other changes that would impact contractual or administrative requirements, are not made. A respondent may request that the data for its well or river pump be updated after the initial inventory.

Respondents: Well and river-pump owners and operators along the lower Colorado River in Arizona, California, and Nevada. Each diverter (including well pumpers) must be identified and their diversion locations and water use determined.

Estimated Completion Time: An average of 20 minutes is required to interview individual well and river-pump owners or operators.

Estimated Annual Total Number of Respondents: 1,500.

Estimated Number of Responses per Respondent: 1.0.

Estimated Total Number of Annual Responses: 1,500.

Estimated Total Annual Burden on Respondents: 500 hours.

IV. Request for Comments

We invite your comments on:

(a) whether the collection of information is necessary for the proper performance of our functions, including whether the information will have practical use;

(b) the accuracy of our estimated time and cost burden of the collection of information, including the validity of the methodology and assumptions used;

(c) ways to enhance the quality, usefulness, and clarity of the information to be collected; and

(d) ways to minimize the burden of the collection of information on respondents, including increased use of automated collection techniques or other forms of information technology.

We will summarize all comments received regarding this notice. We will publish that summary in the Federal Register when the information collection request is submitted to OMB for review and approval.

V. Public Disclosure

Before including your address, phone number, email address, or other personal identifying information in your comment, you should be aware that your entire comment—including your personal identifying information—may be made publicly available at any time. While you can ask us in your comment to withhold your personal identifying information from public review, we cannot guarantee that we will be able to do so.

Dated: December 17, 2014.
Terrance J. Fulp,
Regional Director, Lower Colorado Region.

[FR Doc. 2015-02031 Filed 2-2-15; 8:45 am]

BILLING CODE 4332-90-P